CONSUMER PRODUCT SAFETY COMMISSION

Proposed Collection; Comment Request—Consumer Opinion Forum

AGENCY: Consumer Product Safety Commission.

ACTION: Notice.

SUMMARY: As required by the Paperwork Reduction Act of 1995 (44 U.S.C. Chapter 35), the Consumer Product Safety Commission (CPSC or Commission) requests comments on a proposed collection of information from persons who may voluntarily register and participate in a Consumer Opinion Forum posted on the CPSC Web site, http://wwww.cpsc.gov. The Commission will consider all comments received in response to this notice before requesting approval of this collection of information from the Office of Management and Budget.

DATES: Written comments must be received by the Office of the Secretary not later than June 30, 2006.

ADDRESSES: Written comments should be captioned “Consumer Opinion Forum” and e-mailed to cpsc-os@cpsc.gov. Comments may also be sent by facsimile to (301) 504-0127, or by mail to the Office of the Secretary, Consumer Product Safety Commission, 4330 East West Highway, Bethesda, Maryland 20814.

FOR FURTHER INFORMATION CONTACT: For information about the proposed collection of information call or write Linda L. Glatz, Management and Program Analyst, Office of Planning and Evaluation, Consumer Product Safety Commission, 4330 East West Highway, Bethesda, Maryland 20814; (301) 04-7671.

SUPPLEMENTARY INFORMATION:

A. Background

The Commission is authorized under section 5(a) of the Consumer Product Safety Act (CPSA), 15 U.S.C. 2054(a), to collect information, conduct research, perform studies and investigations relating to the causes and prevention of deaths, accidents, injuries, illnesses, other health impairments, and economic losses associated with consumer products. Section 5(b) of the CPSA, 15 U.S.C. 2054(b), further provides that the Commission may conduct research, studies and investigations on the safety of consumer products or test consumer products and develop product safety test methods and testing devices.

In order to better identify and evaluate the risks of product-related incidents, the Commission staff seeks to solicit consumer opinions and perceptions related to consumer product use, on a voluntary basis, through questions posted on the CPSC's Consumer Opinion Forum on the CPSC Web site, http://www.cpsc.gov. Through the forum, consumers will be able to answer questions and provide information regrading their experiences, opinions and/or perceptions on the use or pattern of use of a specific product or type of product. The Consumer Opinion Forum is intended for consumers, 18 years and older, who have access to the Internet and e-mail, who voluntarily register to participate through a participant registration process, and respond to the questions posted in the Consumer Opinion Forum. New questions will be posted periodically on the CPSC Web site, http://www.cpsc.gov, and registered participants will be invited via e-mail to respond to various questions, but not more frequently than once every four weeks.

The information collected from the Consumer Opinion Forum will help inform the Commission's evaluation of consumer products and product use by providing insight and information into consumer perceptions and usage patterns. Such information may also assist the Commission in its efforts to support voluntary standards activities, and help the staff identify areas regarding consumer safety issues that need additional research. In addition, based on the information obtained, the staff may be able to provide safety information to the public that is easier to read and is more easily understood by a wider range of consumers. For example, the staff may be able to propose new language or revisions to existing language in warning labels or manuals if the staff finds that certain warning language is perceived by many participants to be unclear or subject to misinterpretation. Finally, the Consumer Opinion Forum may be used to solicit consumer opinions and feedback regarding the effectiveness of product recall communications and in determining what action is being taken by consumers in response to such communications and why. This may aid in tailoring future recall activities to increase the success of those activities. If this information is not collected, the Commission would not have available useful information regarding consumer experiences, opinions, and perceptions related to specific product use, which the Commission relies on in its ongoing efforts to improve the safety of consumer products on behalf of consumers.

B. Estimated Burden

The Commission staff currently estimates that there may be up to 5,000 respondents who register to participate in the Consumer Opinion Forum. The Commission staff estimates that each respondent will take 10 minutes or less to complete the one-time registration process. The Commission staff further estimates that the amount of time required to respond to each set of questions on the Consumer Opinion Forum will be 15 minutes or less. If, at the maximum, each respondent responds to 12 sets of questions over the course of a year, or once a month, the yearly burden would result in approximately 3 hours per year for each respondent. If as many as 5,000 consumers respond, the Commission staff estimates that the annual burden could total approximately 15,833 hours per year.

The Commission staff estimates the value of the time of respondents to this collection of information at $28.75 an hour. This is based on the 2005 U.S. Department of Labor Employer Costs for Employee Compensation. At this valuation, the estimated annual cost to the public of this information collection will be about $455,000 per year.

C. Request for Comments

The Commission solicits written comments from all interested persons about the proposed collection of information. The commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: April 26, 2006.
Todd A. Stevenson,
Secretary, Consumer Product Safety Commission.

[FR Doc. 06-4102 Filed 4-28-06; 8:45 am]

BILLING CODE 6355-01-M